DEPARTMENT OF JUSTICE

National Institute of Corrections

Advisory Board Meeting

Time and Date: 8 a.m. to 4:30 p.m. on Monday, June 9, 2008. 8 a.m. to 11:30 p.m. on Tuesday, June 10, 2008.

Place: National Institute of Corrections, 500 First Street NW., 7th fl, Washington, DC 20534, Phone (202) 307-3106.

Status: Open.

Matters To Be Considered: NIC executive Director's report; FY 09 Program Plan; Chairman McFarland will discuss the hearings of the PREA Review Panel; Review PREA Commission draft standards with Richard Hoffman, executive Director, PREA Commission; Reports from Office of Justice Programs, U.S. Parole Commission, American Correctional Association and Federal Judicial center.

Contact Person for More Information: Thomas Beauclair, Deputy Director, 202-307-3106, ext. 44254.

Morris L. Thigpen,
Director.

[FR Doc. E8-9986 Filed 5-6-08; 8:45 am]

BILLING CODE 4410-36-M